ENVIRONMENTAL PROTECTION AGENCY

40 CFR Part 63

[EPA-HQ-OAR-2002-0088; FRL-8158-5]

RIN 2060-AM90

National Emission Standards for Hazardous Air Pollutants for Refractory Products Manufacturing

AGENCY: Environmental Protection Agency (EPA).

ACTION: Withdrawal of direct final rule.

SUMMARY: Because EPA received adverse comment, we are withdrawing the direct final rule amendments to the national emission standards for hazardous air pollutants (NESHAP) for Refractory Products Manufacturing, published in the Federal Register on February 13, 2006. We stated in the direct final rule amendments that if we received adverse comment by March 15, 2006, we would publish a timely notice of withdrawal in the Federal Register. We subsequently received adverse comment on the direct final rule amendments. We will address those comments in a subsequent final action based on the parallel proposal also published on February 13, 2006. As stated in the parallel proposal, we will not institute a second comment period on this action.

DATES: As of April 14, 2006, EPA withdraws the direct final rule amendments published on February 13, 2006 (71 FR 7415).

ADDRESSES: EPA has established a docket for this action under Docket ID No. EPA-HQ-OAR-2002-0088. All documents in the docket are listed on the http://www.regulations.gov Web site. Although listed in the index, some information is not publicly available, e.g., confidential business information or other information whose disclosure is restricted by statute. Certain other material, such as copyrighted material, is not placed on the Internet and will be publicly available only in hard copy form. Publicly available docket materials are available either electronically through http://www.regulations.gov or in hard copy at the NESHAP for Refractory Products Manufacturing Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Refractory Products Manufacturing Docket is (202) 566-1742.

FOR FURTHER INFORMATION CONTACT: Susan Fairchild, Office of Air Quality Planning and Standards, Sector Policies and Programs Division, Metals and Minerals Group (D-243-02), Environmental Protection Agency, Research Triangle Park, North Carolina 27711; telephone number: (919) 541-5167; fax number: (919) 541-5600; e-mail address: fairchild.susan@epa.gov.

SUPPLEMENTARY INFORMATION:

I. General Information

Categories and entities potentially affected by this action include those which manufacture refractory products. Regulated categories and entities include:

Category | NAICS code ¹ | Examples of regulated entities
Industry | 327124 327125 | Clay refractory manufacturing plants and nonclay refractory manufacturing plants.
Federal government |  | Not affected.
State/local/tribal government |  | Not affected.
¹ North American Industry Classification System.

This table is not intended to be exhaustive, but rather provides a guide for readers regarding entities likely to be affected by this action. This table lists the types of entities that EPA is now aware could be affected by this action. Other types of entities not listed in the table could also be affected. To determine whether your facility is affected by this action, you should carefully examine the applicability criteria in 40 CFR 63.9782 of subpart SSSSS (NESHAP for Refractory Products Manufacturing). If you have questions regarding the applicability of this action to a particular entity, consult either the air permit authority for the entity or your EPA regional representative as listed in 40 CFR 63.13 of subpart A (General Provisions).

II. Background Information

On February 13, 2006, we published a direct final rule (71 FR 7415) and parallel proposal (71 FR 7494) amending the NESHAP for Refractory Products Manufacturing. The amendments would have clarified the testing and monitoring requirements of the NESHAP, made the NESHAP consistent with recent changes to the General Provisions (40 CFR part 63, subpart A), and made certain technical corrections to the rule. The amendments would have clarified that sources complying with the total hydrocarbon (THC) percent reduction emission limit could choose to meet the alternative concentration emission limit if they turn back the control device after it is no longer needed (i.e., after the concentration of THC in the exhaust gas is at or below the THC concentration emissions limit).

The preamble to the direct final rule amendments stated that if we received adverse comment by March 15, 2006, we would publish a timely notice of withdrawal in the Federal Register. EPA received adverse comment on the direct final rule amendments. Accordingly, we are withdrawing the direct final rule amendments as of April 14, 2006. EPA will take final action on the parallel proposal after considering the comments received. As stated in the parallel proposal, EPA will not institute a second comment period on this action.

List of Subjects in 40 CFR Part 63

Environmental protection, Administrative practice and procedure, Air pollution control, Hazardous substances, Intergovernmental relations, Reporting and recordkeeping requirements.

Dated: April 7, 2006.
William L. Wehrum,
Acting Assistant Administrator for Air and Radiation.

PART 63—[AMENDED]

Accordingly, the amendments to the rule published in the Federal Register on February 13, 2006 (71 FR 7415) on pages 7415-7441 are withdrawn as of April 14, 2006.

[FR Doc. 06-3545 Filed 4-13-06; 8:45 am]

BILLING CODE 6560-50-P